FEDERAL ELECTION COMMISSION

[Notice 2001-4]

Filing Dates for the Virginia Special Election in the 4th Congressional District

AGENCY: Federal Election Commission.

ACTION: Notice of filing dates for special election.

SUMMARY: Virginia has scheduled a special election on June 19, 2001, to fill the U.S. House of Representatives seat in the Fourth Congressional District held by the late Congressman Norman Sisisky.

Committees participating in the Virginia special election are required to file pre- and post-election reports.

FOR FURTHER INFORMATION CONTACT: Mr. Gregory J. Scott, Information Division, 999 E Street, NW., Washington, DC 20463; Telephone: (202) 694-1100; Toll Free (800) 424-9530.

SUPPLEMENTARY INFORMATION: All principal campaign committees of candidates who participate in the Virginia Special General and all other political committees that support candidates in the Special General shall file a 12-day Pre-General Report on June 7, 2001, with coverage dates from the close of the last report filed, or the day of the committee's first activity, whichever is later, through May 30, 2001; and a consolidated 30-day Post-General and Mid-Year Report on July 19, 2001, with coverage dates from May 31 through July 9, 2001.

Committees filing monthly that support candidates in the Virginia Special General should continue to file according to the non-election year monthly reporting schedule.

Calendar of Reporting Dates for Virginia Special Election
[Committees involved in the special general (06/19/01) must file]
Report | Close of books¹ | Reg./cert. mailing date² | Filing date
Pre-General | 05/30/01 | 06/04/01 | 06/07/01
Post-General & Mid-Year ³ | 07/09/01 | 07/19/01 | 07/19/01
¹ The period begins with the close of books of the last report filed by the committee. If the committee has filed no previous reports, the period begins with the date of the committee's first activity.
² Reports sent registered or certified mail must be postmarked by the mailing date; otherwise, they must be received by the filing date.
³ Committees should file a consolidated Post-General and Mid-Year Report by the filing date of the Post-General Report.

Dated: April 24, 2001.
David M. Mason,
Vice-Chairman, Federal Election Commission.

[FR Doc. 01-10575 Filed 4-27-01; 8:45 am]

BILLING CODE 6715-01-P